DEPARTMENT OF HEALTH AND HUMAN SERVICES

Centers for Medicare and Medicaid Services

[Document Identifier: CMS-250-254]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures the use of normal clearance procedures is reasonably likely to cause a statutory deadline to be missed.

The Centers for Medicare & Medicaid Services (CMS) is seeking approval to collect information from beneficiaries, providers, physicians, or suppliers on health insurance coverage that is primary to Medicare. Collecting this information allows CMS to identify those Medicare beneficiaries who have other group health insurance that would pay before Medicare, safeguarding the Medicare Trust Fund. The annual savings from the Medicare Secondary Payer (MSP) program for Parts A and B are more than $4.5 billion per year. With the impending implementation of Medicare Part D under the Medicare Prescription Drug, Modernization and Improvement Act of 2003 (MMA), a new approval is needed in order to include prescription drug-related questions on the already-approved MSP collections and increase the savings to the Medicare Trust Fund.

CMS is requesting OMB review and approval of this collection by July 15, 2005, with a 180-day approval period. Written comments and recommendation will be accepted from the public if received by the individuals designated below by June 11, 2005.

To obtain copies of the supporting statement and any related forms for the proposed paperwork collections referenced above, access CMS' Web site address at http://www.cms.hhs.gov/regulations/pra or e-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by July 11, 2005:

Centers for Medicare and Medicaid Services, Office of Strategic Operations and Regulatory Affairs, Room C5-13-27, 7500 Security Boulevard, Baltimore, MD 21244-1850. Fax Number: (410) 786-0262. Attn: William N. Parham, III, CMS-250-254; and

OMB Human Resources and Housing Branch, Attention: Christopher Martin, New Executive Office Building, Room 10235, Washington, DC 20503.

Dated: June 3, 2005.
Jim L. Wickliffe,
CMS Paperwork Reduction Act Reports Clearance Officer, Regulations Development Group, Office of Strategic Operations and Regulatory Affairs.

[FR Doc. 05-11722 Filed 6-16-05; 8:45 am]

BILLING CODE 4120-01-P